DEPARTMENT OF ENERGY

Federal Energy Regulatory Commission

[Docket No. RM03-8-001]

Quarterly Financial Reporting and Revisions to the Annual Reports; Notice

July 20, 2004.

The Federal Energy Regulatory Commission published in the Federal Register of February 26, 2004, Order No. 646, a Final Rule amending the Commission's financial reporting regulations establishing new quarterly financial reporting for respondents that currently file Annual Reports with the Commission.¹ These new quarterly financial reports are the FERC Form No. 3-Q, Quarterly Financial Report of Electric Companies, Licensees, and Natural Gas Companies, and the FERC Form No. 6-Q, Quarterly Financial Report of Oil Pipeline Companies.

¹ Quarterly Financial Reporting and Revisions to the Annual Reports, Order No. 646, 69 FR 9030 (Feb. 26, 2004), III FERC Stats. & Regs. ¶ 31,158 (Feb. 11, 2004).

The software provided by the Commission and used to file the FERC Forms No. 3-Q is now available on the Commission's Web site. It is also available to respondents through automatic updates to the FERC Form Nos. 1, and 2/2-A software. Respondents may contact FERCOnLineSupport@ferc.gov for questions concerning the use of the software. Questions concerning the financial data reported in the quarterly financial reports may be directed to Brian Holmes at (202) 502-6008 or sent by e-mail to brian.holmes@ferc.gov.

Linda Mitry,
Acting Secretary.

[FR Doc. E4-1643 Filed 7-22-04; 8:45 am]

BILLING CODE 6717-01-P